DEPARTMENT OF ENERGY

Federal Energy Regulatory Commission

[Docket No. CP08-477-000]

Northwest Pipeline GP; Notice of Application

October 2, 2008.

Take notice that on September 24, 2008, Northwest Pipeline GP (Northwest), 295 Chipeta Way, Salt Lake City, Utah 84108, filed with the Commission an application pursuant to section 157 of the Commission's regulations under the Natural Gas Act (NGA) seeking authorizing construction and operation of its Colorado Hub Connection Project. The facilities to be constructed are approximately 27.4 miles of 24-inch pipeline; and interconnecting facilities the Enterprise Meeker Gas Processing Plant and with White River Hub, all in Rio Blanco County, Colorado, all as more fully set forth in the application which is on file with the Commission and open to public inspection.

Copies of this filing are available for review at the Commission's Washington, DC offices, or may be viewed on the web at http://www.ferc.gov using the “eLibrary” link. Enter the docket number excluding the last three digits in the docket number field to access the document. For assistance, contact FERC at FERCOnlineSupport@ferc.gov or call toll-free, (801) 584-6851.

Any questions regarding this application should be directed to Lynn Dahlberg, Manager Certificates, Northwest Pipeline GP, 295 Chipeta Way, Salt Lake City, Utah 84108, phone (213) 225-5900, e-mail gbrown@breitburn.com.

There are two ways to become involved in the Commission's review of this application. First, any person wishing to obtain legal status by becoming a party to this proceeding should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to the project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: October 24, 2008.

Nathaniel J. Davis, Sr.,
Deputy Secretary.

[FR Doc. E8-23938 Filed 10-8-08; 8:45 am]

BILLING CODE 6717-01-P